DEPARTMENT OF THE INTERIOR

Bureau of Indian Affairs

Renewal of Agency Information Collection for Indian Reservation Roads; Request for Comments

AGENCY: Bureau of Indian Affairs, Interior.

ACTION: Notice of request for comments.

SUMMARY: In compliance with the Paperwork Reduction Act of 1995, the Bureau of Indian Affairs (BIA) is seeking comments on renewal of Office of Management and Budget (OMB) approval for the collection of information for Indian Reservation Roads. The information collection is currently authorized by OMB Control Number 1076-0161, which expires July 31, 2012.

DATES: Submit comments on or before June 25, 2012.

ADDRESSES: You may submit comments on the information collection to LeRoy Gishi, Chief, Division of Transportation, Bureau of Indian Affairs, 1849 C Street NW., MS-4513 MIB, Washington, DC 20240; facsimile: (202) 219-1193 email: LeRoy.Gishi@bia.gov.

FOR FURTHER INFORMATION CONTACT: LeRoy Gishi, (202) 513-7711.

SUPPLEMENTARY INFORMATION:

I. Abstract

This collection allows Federally recognized Tribal governments to participate in the Indian Reservation Roads (IRR) program as defined in 25 U.S.C. 204(a)(1). The information collected determines the allocation of IRR program funds to Indian tribes as described in 25 U.S.C. 202 (d)(2)(A).

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personally identifiable information, you should be aware that your entire comment—including you personal identifying information—may be made publicly available at any time. While you may ask us in your comment to withhold your personal identifying information, we cannot guarantee that we will be able to do so.

III. Data

OMB Control Number: 1076-0161.

Title: 25 CFR Part 170, Indian Reservation Roads.

Brief Description of Collection: Some of the information such as the application of Indian Reservation Roads High Priority Projects (IRRHPP) (25 CFR 170.210), the road inventory updates (25 CFR 170.443), the development of a long range transportation plan (25 CFR 170.411 and 170.412), the development of a tribal transportation improvement program and priority list (25 CFR 170.420 and 170.421) are mandatory for consideration of projects and for program funding from the formula. Some of the information, such as public hearing requirements, is necessary for public notification and involvement (25 CFR 170.437 and 170.439). While other information, such as data appeals (25 CFR 170.231) and requests for design exceptions (25 CFR 170.456), are voluntary.

Type of Review: Extension without change of a currently approved collection.

Respondents: Federally recognized Indian Tribal governments who have transportation needs associated with the IRR Program as described in 25 CFR part 170.

Number of Respondents: Varies from 10 to 350.

Frequency of Response: Annually or on an as needed basis.

Estimated Time per Response: Reports require from 30 minutes to 40 hours to complete. An average would be 16 hours.

Estimated Total Annual Hour Burden: 4,120 hours.

Estimated Total Annual Cost Burden: $0.

Dated: April 23, 2012.
Alvin Foster,
Assistant Director for Information Resources.

[FR Doc. 2012-10096 Filed 4-25-12; 8:45 am]

BILLING CODE 4310-LY-P